ENVIRONMENTAL PROTECTION AGENCY

[FRL-7380-6]

Good Neighbor Environmental Board Meeting

AGENCY: Environmental Protection Agency (EPA).

ACTION: Notice of meeting.

SUMMARY: The next meeting of the Good Neighbor Environmental Board, a federal advisory committee that reports to the President and Congress on environmental and infrastructure projects along the U.S. border with Mexico, will take place in Nogales, Arizona on October 9-10, 2002. It is open to the public.

DATES: On October 9, the meeting will begin at 8:30 a.m. and end at 5:30 p.m. Throughout the first day, invited speakers will address two border-region environmental infrastructure topics: conservation and health. A public comment session will take place during the meeting from 12 p.m.-12:30 p.m.

The following day, on October 10, the Board will conduct a routine half-day business meeting in the morning that will begin at 8 a.m. and end at 12 noon. After lunch, beginning at 1 p.m., the Board will host a two-hour special session on the potential effects of homeland security activities on border-region environmental infrastructure. The meeting will end at 3 p.m. on October 10.

ADDRESSES: The meeting will take place in the Mayor and Council Chambers of the Nogales, Arizona, City Hall. Its address is 777 North Grand Avenue. The phone number is (520) 287-6571.

FOR FURTHER INFORMATION CONTACT: Elaine M. Koerner, Designated Federal Officer for the Good Neighbor Environmental Board, Office of Cooperative Environmental Management, Office of the Administrator, USEPA, MC1601E, 655 15 St. NW., Washington, DC 20460, (202) 233-0069, koerner.elaine@epa.gov. The Board Web site is www.epa.gov/ocem/gneb-page.htm.

Meeting Access: Individuals requiring special accommodation at this meeting, including wheelchair access to the meeting room, should contact the Designated Federal Officer at least five business days prior to the meeting so that appropriate arrangements can be made.

SUPPLEMENTARY INFORMATION:

Public Attendance

The public is welcome to attend all portions of the meeting. Members of the public who plan to file written statements and/or make brief (suggested 5-minute limit) oral statements at the public comment session are encouraged to contact the Designated Federal Officer for the Board prior to the meeting.

Background

The Good Neighbor Environmental Board meets three times each calendar year at different locations along the U.S.-Mexico border. It was created by the Enterprise for the Americas Initiative Act of 1992. An Executive Order delegates implementing authority to the Administrator of EPA. The Board is responsible for providing advice to the U.S. President and Congress on environmental and infrastructure issues and needs within the States contiguous to Mexico in order to improve the quality of life of persons residing on the United States side of the border. The statute calls for the Board to have representatives from U.S. Government agencies; the governments of the States of Arizona, California, New Mexico and Texas; and private organizations with expertise on environmental and infrastructure problems along the southwest border. The U.S. Environmental Protection Agency gives notice of this meeting of the Good Neighbor Environmental Board pursuant to the Federal Advisory Committee Act (Public Law 92-463).

Dated: September 9, 2002.
Mark N. Joyce,
Acting Designated Federal Officer.

[FR Doc. 02-23991 Filed 9-19-02; 8:45 am]

BILLING CODE 6560-50-P